DEPARTMENT OF HEALTH AND HUMAN SERVICES

Privacy Act of 1974; Matching Program

AGENCY: Administration for Children and Families, Department of Health and Human Services.

ACTION: Notice of a new matching program.

SUMMARY: In accordance with subsection (e)(12) of the Privacy Act of 1974, as amended, the Department of Health and Human Services, Administration for Children and Families, Office of Child Support Enforcement (HHS/ACF/OCSE), is providing notice of a re-established matching program between OCSE and state workforce agencies (SWAs) administering the Unemployment Compensation (UC) Program. The matching program will provide SWAs with new hire (i.e., employment status) and quarterly wage information from OCSE's National Directory of New Hires (NDNH) system of records, for the purpose of assisting SWAs in preventing, detecting, and addressing program violations and errors, and for related secondary purposes.

DATES: The deadline for comments on this notice is January 22, 2018. The re-established matching program will commence not sooner than 30 days after publication of this notice, provided no comments are received that warrant a change to this notice. The matching program will be conducted for an initial term of 18 months (approximately January 13, 2018 through July 13, 2019) and within 3 months of expiration may be renewed for up to 12 additional months if the parties make no change to the matching program and certify that the program has been conducted in compliance with the matching agreement.

ADDRESSES: Interested parties may submit written comments on this notice, by mail or email, to Linda Boyer, Director, Division of Federal Systems, Office of Child Support Enforcement, Administration for Children and Families, by email at linda.boyer@acf.hhs.gov, or by mail at Mary E. Switzer Building, 330 C Street SW, 5th Floor, Washington, DC 20201. Comments received will be available for public inspection at this address from 9:00 a.m. to 5:00 p.m. ET, Monday through Friday.

FOR FURTHER INFORMATION CONTACT: General questions about the matching program may be submitted to Linda Boyer, Director, Division of Federal Systems, Office of Child Support Enforcement, Administration for Children and Families, by email at linda.boyer@acf.hhs.gov, by mail at Mary E. Switzer Building, 330 C Street SW, 5th Floor, Washington, DC 20201, or by telephone at 202-401-5410.

SUPPLEMENTARY INFORMATION: The Privacy Act of 1974, as amended (5 U.S.C. 552a), provides for certain protections for individuals applying for and receiving federal benefits. The law governs the use of computer matching by federal agencies when records in a system of records (meaning, records about individual retrieved by personal identifier) are matched with other federal or state agency records. The Privacy Act requires agencies involved in a matching program to:

1. Enter into a written agreement, which must be prepared in accordance with the Privacy Act, approved by the Data Integrity Board of each participating federal agency, provided to Congress and the Office of Management and Budget (OMB), and made available to the public, as required by 5 U.S.C. 552a(o), (u)(3)(A), and (u)(4).

2. Notify the individuals whose information will be used in the matching program that the information they provide is subject to verification through matching, as required by 5 U.S.C. 552a(o)(1)(D).

3. Verify match findings before suspending, terminating, reducing, or making a final denial of an individual's benefits or payments or taking other adverse action against the individual, as required by 5 U.S.C. 552a(p).

4. Report the matching program to Congress and the OMB, in advance and annually, as required by 5 U.S.C. 552a(o) (2)(A)(i), (r), and (u)(3)(D).

5. Publish advance notice of the matching program in the Federal Register as required by 5 U.S.C. 552a(e)(12).

This matching program meets these requirements.

Participating Agencies

Office of Child Support Enforcement (OCSE) is the source agency, and state workforce agencies (SWAs) administering the Unemployment Compensation (UC) Program are the recipient agencies.

Authority for Conducting the Matching Program

42 U.S.C. 653(j)(8).

Purpose(s)

The matching program provides each SWA with new hire and quarterly wage information from OCSE's National Directory of New Hires (NDNH) system of records, pertaining to adult UC applicants and recipients, resulting from comparing client name and Social Security number combinations in the SWA's files to data in NDNH. The match results assist the SWAs in establishing or verifying eligibility for assistance, reducing payment errors, and maintaining program integrity, including determining whether duplicate participation exists or if the client resides in another state. The SWAs may also use the NDNH information for secondary purposes, such as updating UC recipients' reported participation in work activities, updating recipients' and their employers' contact information, and administering the SWAs' tax compliance function.

Categories of Individuals

The categories of individuals whose information is involved in the matching program are adult members of households who receive or have applied for UC benefits.

Categories of Records

The categories of records involved in the matching program are new hire and quarterly wage information. The specific data elements that will be provided to OCSE in a SWA input file are:

• Submitting state code (2-digit FIPS code)

• Date stamp (input file transmission date)

• UC benefit applicant/recipient's Social Security number

• UC benefit applicant/recipient's first, middle, and last name

• Same state data indicator (indicates whether the SWA requests NDNH new hire and quarterly wage information was provided to the NDNH by that same state)

• Passback data (SWA information used to identify individuals within the input file to be returned on the output file)

• Name/Social Security number verification request

OCSE will compare the Social Security numbers in the SWA input file to the Social Security numbers in the NDNH, and will provide the SWA with any available new hire and quarterly wage information in NDNH (including names, Social Security numbers, home addresses, and employment information) pertaining to the individuals whose records are contained in the SWA input file.

System(s) of Records

The OCSE records disclosed to SWAs will be disclosed from OCSE's National Directory of New Hires (NDNH) system of records, No. 09-80-0381, last published at 80 FR 17906 on April 2, 2015. The disclosures are authorized by routine use 13 in that system of records.

Scott M. Lekan,
Commissioner, Office of Child Support Enforcement.

[FR Doc. 2017-27486 Filed 12-20-17; 8:45 am]

BILLING CODE 4184-42-P